DEPARTMENT OF HEALTH AND HUMAN SERVICES

National Institutes of Health

National Cancer Institute; Amended Notice of Meeting

Notice is hereby given of a change in the meeting of the National Cancer Institute Special Emphasis Panel, October 21, 2010, 8 a.m. to October 21, 2010, 5 p.m., Doubletree Hotel Bethesda, (Formerly Holiday Inn Select), 8120 Wisconsin Avenue, Bethesda, MD, 20814 which was published in the Federal Register on July 9, 2010, 75 FR 39547.

This FRN amendment has been processed to change the location of this meeting from the Doubletree Hotel Bethesda, 8120 Wisconsin Avenue, Bethesda MD 20814 to the Legacy Hotel and Meeting Center, 1775 Rockville Pike, Rockville MD 20852. The meeting is closed to the public.

Dated: July 22, 2010.
Jennifer Spaeth,
Director, Office of Federal Advisory Committee Policy.

[FR Doc. 2010-18503 Filed 7-27-10; 8:45 am]

BILLING CODE 4140-01-P